DEPARTMENT OF THE INTERIOR

Fish and Wildlife Service

[FWS-R1-R-2012-N123: 1265-0000-10137-S3]

Sheldon National Wildlife Refuge, Humboldt County and Washoe County, NV; Lake County, OR; Final Comprehensive Conservation Plan and Environmental Impact Statement

AGENCY: Fish and Wildlife Service, Interior.

ACTION: Notice of availability.

SUMMARY: We, the U.S. Fish and Wildlife Service (Service), announce the availability of the final comprehensive conservation plan and environmental impact statement (CCP/EIS) for Sheldon National Wildlife Refuge (Refuge). In the final CCP/EIS, we describe how we propose to manage the Refuge for the next 15 years.

DATES: We will sign a record of decision no sooner than 30 days after publication of this notice.

ADDRESSES: You may view, obtain, or request printed or CD-ROM copies of the Final CCP/EIS by any of the following methods.

Agency Web Site: Download the final CCP/EIS at www.fws.gov/pacific/planning/main/docs/NV/docssheldon.htm.

Mail: Sheldon National Wildlife Refuge, P.O. Box 111, Lakeview, OR 97630.

In-Person Viewing or Pickup: Sheldon National Wildlife Refuge, 20995 Rabbit Hill Road, Lakeview, OR 97630.

FOR FURTHER INFORMATION CONTACT: Aaron Collins, Planning Team Leader, (541) 947-3315 ext. 223 (phone).

SUPPLEMENTARY INFORMATION:

Introduction

With this notice, we announce the availability of the Refuge's final CCP/EIS. We started this process through a notice in the Federal Register (73 FR 27003; May 12, 2008). We released the draft CCP/EIS to the public, announcing and requesting public comments in a notice of availability in the Federal Register (76 FR 55937; September 9, 2011).

The Refuge encompasses approximately 575,000 acres, located primarily in northwestern Nevada, with a small area in south-central Oregon. The Refuge was established to protect the American pronghorn; it also provides important habitat for greater sage-grouse, pygmy rabbit, American pika, mule deer, California bighorn sheep, Sheldon tui chub, various raptors, and numerous passerines and invertebrates. Habitat types found on the Refuge are primarily shrub-steppe uplands, and springs and spring brooks, basalt cliffs and canyons, and emergent marshes; juniper, mountain mahogany, and aspen woodlands; and desert greasewood flats.

We announce the availability of the final CCP/EIS in accordance with National Environmental Policy Act (NEPA) 40 CFR 1506.6(b), requirements. We completed a thorough analysis of impacts on the human environment in the final CCP/EIS.

The CCP will guide us in managing and administering the Refuge for the next 15 years. Alternative 2, as we described in the Final CCP/EIS, is our preferred alternative.

Background

The CCP Process

The National Wildlife Refuge System Administration Act of 1966, 16 U.S.C. 668dd-668ee (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives We Are Considering

We evaluated three alternatives for managing the Refuge for the next 15 years in the Final CCP/EIS. Based on our analysis, we identified Alternative 2 as our preferred alternative; it was modified in the Final CCP/EIS to address the comments we received on the Draft CCP/EIS. We summarized the comments and our responses in Appendix N of the Final CCP/EIS. Summaries of our alternatives follow.

Alternative 1 Current Management (No Action Alternative)

Alternative 1 reflects current management of the Refuge and serves as the baseline for comparing the other management alternatives. Under Alternative 1 our management focus would be on maintaining habitats throughout the Refuge in their current conditions and preventing further degradation. We would continue to roundup and adopt out feral horses and burros, to maintain a population of approximately 800 horses and 80 burros. Wildland fire suppression, and mechanical cutting and thinning of encroaching juniper, would continue, to maintain sagebrush habitats in the late stages of succession, and avoid potential widespread growth of invasive annual grasses. We would continue to use prescribed fire to maintain wet meadow and grassland habitats in their early-to-mid-stages of succession. Public uses such as wildlife observation, photography, hunting, and fishing would continue on existing ponds, reservoirs, fishing docks, primary roads, and various primitive, semi-primitive, and developed campgrounds. Fish stocking in Refuge reservoirs would continue, as would the limited collection of rocks and minerals. The existing wilderness proposal would not change.

Alternative 2 Intensive Habitat Management (Preferred Alternative)

Under Alternative 2, our preferred alternative, we would focus on improving habitat for fish and wildlife, with an emphasis on supporting healthy populations of sagebrush-obligate wildlife species such as American pronghorn and greater sage-grouse. Actions to improve the Refuge's habitats would include removing all feral horses and burros from the Refuge within 5 years, relocating campgrounds away from sensitive riparian habitats, reducing western juniper encroachment, and, where feasible, increasing the frequency of fire to restore more natural habitat conditions, diversity, and plant community succession. Removing abandoned livestock developments and reducing invasive plants along roads would be emphasized. Opportunities for hunting, fishing, wildlife observation, photography, and environmental education and interpretation would be maintained or improved. Limited rock and mineral collecting would continue, with improved visitor information. Nevada's fish stocking program would continue, using fish species naturally occurring within the local area. Our wilderness recommendation would differ from the existing proposal by including some but not all of the lands identified in the existing proposal, and recommending areas not previously identified. Contingent upon approval of the wilderness recommendation, we would propose reopening some primitive routes for motorized vehicle use. Several segments of existing and recommended routes would be realigned to reduce erosion and impacts to riparian habitats. Alternative 2 would result in the greatest improvements to native habitat conditions throughout the Refuge, would best meet the policy and directives of the Service, is compatible with the Refuge's purposes, and would maintain balance among the Refuge's varied management needs and programs.

Alternative 3 Less Intensive Management

Under Alternative 3, we would restore natural processes, to maintain, enhance, and where possible, increase the Refuge's native fish, wildlife, and plant diversity, representative of historical conditions in the Great Basin. Emphasis would be placed on improving shrub-steppe habitats, and restoring modified and/or degraded habitats to more natural conditions, while using less intensive management actions where appropriate. Habitat management actions would include removing all feral horses and burros from the Refuge within 10 years, and creating conditions where natural processes, such as fire, could be allowed, with less dependence on intensive management actions. Opportunities for wildlife observation, photography, hunting, and fishing would continue at most current sites, except that fish stocking at Big Spring Reservoir would not occur. Campgrounds would be consolidated into fewer but larger developed campgrounds, with better amenities. We would recommend a smaller number of acres for wilderness designation under Alternative 3. As part of our wilderness proposal, we would recommend reopening some primitive routes for motorized vehicle use, which would not require intensive restoration or management to minimize adverse impacts.

Comments

We solicited comments on the Draft CCP/EIS in a Federal Register notice (76 FR 55937; September 9, 2011). We received comments from 1,709 agencies, organizations, and individuals. We addressed the comments in the Final CCP/EIS by making minor changes and clarifications as appropriate. These changes are explained in our responses to public comments in Appendix N of the Final CCP/EIS.

Dated: June 21, 2012.
Richard R. Hannan,
Acting Regional Director, Pacific Region, Portland, Oregon.

[FR Doc. 2012-20843 Filed 8-23-12; 8:45 am]

BILLING CODE 4310-55-P